NATIONAL SCIENCE FOUNDATION

Agency Information Collection Activities: Proposed Collection; Comment Request

AGENCY: National Science Foundation.

ACTION: Notice.

SUMMARY: The National Science Foundation (NSF) is announcing plans to request clearance of this collection. In accordance with the requirement of section 3506(c)(2)(A) of the Paperwork Reduction Act of 1995, we are providing opportunity for public comment on this action. After obtaining and considering public comment, NSF will prepare the submission requesting OMB clearance of this collection for no longer than 3 years.

Comments are invited on: (a) Whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on respondents, including through the use of automated collection techniques or other forms of information technology.

DATES: Written comments should be received by January 14, 2002 to be assured of consideration. Comments received after the date would be considered to the extent practicable.

ADDRESSES: Written comments regarding the information collection and requests for copies of the proposed information collection request should be addressed to Suzanne Plimpton, Reports Clearance Officer, National Science Foundation, 4201 Wilson Blvd., Rm. 295, Arlington, VA 22230, or by e-mail to splimpto@nsf.gov.

FOR FURTHER INFORMATION CONTACT: Suzanne Plimpton on (703) 292-7556 or send email to splimpto@nsf.gov. Individuals who use a telecommunications device for the deaf (TDD) may call the Federal Information Relay Service (FIRS) at 1-800-877-8339 between 8 a.m. and 8 p.m., Eastern time, Monday through Friday.

SUPPLEMENTARY INFORMATION: Title of Collection: The Evaluation of NSF's Computer Science, Engineering & Mathematics Scholarship (CSEMS) Program.

OMB Control No.: 3145-New.

Expiration Date of Approval: Not applicable.

1. Abstract: This document has been prepared to support the clearance of data collection instruments to be used in the evaluation of the Computer Science, Engineering & Mathematics Scholarship (CSEMS) Program. CSEMS supports scholarships for talented, but financially disadvantaged students enabling them to achieve an associate, baccalaureate, or graduate level degree in computer science, computer technology, engineering, engineering technology, or mathematics. The study design focuses on describing campus based models for how the CSEMS program can be optimized, using a sample of institutions that received CSEMS scholarship money for the 2 year period, 2000-2002. The evaluation will examine specific aspects of the program such as recruitment and selection of the scholarship students, student retention and graduation, support services and enrichment programs, academic improvements as a direct result of CSEMS; development of internships, industry partnerships and placement programs into the high technology field. The evaluation will identify campus-based barriers that prevent implementing the goals of the CSEMS program. The data will be gathered through a questionnaire and on-site personal interviews with the Principal Investigator; in person interviews with relevant faculty and staff; and focus groups with the scholarship recipients.

2. Expected Respondents: The expected respondents are the Principal Investigators, CSEMS scholarship recipients, as well as faculty and staff associated directly with the CSEMS program at sampled academic institutions with CSEMS funding for the 2000-2002 academic years.

3. Burden on the Public: The total elements for this collection are 1620 burden hours for a maximum of 870 participants annually, assuming an 80-100% response rate. The average annual reporting burden is under 2 hours per respondent. The burden on the public is negligible; the study is limited to project participants that have received funding from the CSEMS program.

Dated: November 6, 2001.
Suzanne H. Plimpton,
NSF Reports Clearance Officer.

[FR Doc. 01-28261 Filed 11-9-01; 8:45 am]

BILLING CODE 7555-01-M